DEPARTMENT OF ENERGY

Federal Energy Regulatory Commission

Combined Notice of Filings #1

Take notice that the Commission received the following electric rate filings:

Docket Numbers: ER20-1495-000.

Applicants: Bucksport Generation LLC.

Description: § 205(d) Rate Filing: Normal filing 2020 to be effective 4/4/2020.

Filed Date: 4/3/20.

Accession Number: 20200403-5147.

Comments Due: 5 p.m. ET 4/24/20.

Docket Numbers: ER20-1496-000.

Applicants: PJM Interconnection, L.L.C.

Description: § 205(d) Rate Filing: Amendment to WMPA, Service Agreement No. 5522; Queue No. AE1-075 to be effective 10/14/2019.

Filed Date: 4/3/20.

Accession Number: 20200403-5160.

Comments Due: 5 p.m. ET 4/24/20.

Docket Numbers: ER20-1497-000.

Applicants: ISO New England Inc.

Description: § 205(d) Rate Filing: ISO-NE Ministerial Filing to Conform Section III.13.6 of the Tariff to be effective 6/1/2020.

Filed Date: 4/3/20.

Accession Number: 20200403-5182.

Comments Due: 5 p.m. ET 4/24/20.

Docket Numbers: ER20-1498-000.

Applicants: Krayn Wind LLC.

Description: Notice of Cancellation of Market-Based Rate Tariff of Krayn Wind, LLC.

Filed Date: 4/3/20.

Accession Number: 20200403-5194.

Comments Due: 5 p.m. ET 4/24/20.

Docket Numbers: ER20-1499-000.

Applicants: Appalachian Power Company.

Description: § 205(d) Rate Filing: OATT—AEP Texas Inc. 1-Co Rate Update, Attach K and Misc related revisions to be effective 12/31/9998.

Filed Date: 4/3/20.

Accession Number: 20200403-5198.

Comments Due: 5 p.m. ET 4/24/20.

Docket Numbers: ER20-1500-000.

Applicants: Midcontinent Independent System Operator, Inc.

Description: § 205(d) Rate Filing: 2020-04-06_SA 3471 Entergy Mississippi-Steelhead Wind 2 GIA (J866) to be effective 3/23/2020.

Filed Date: 4/6/20.

Accession Number: 20200406-5008.

Comments Due: 5 p.m. ET 4/27/20.

Docket Numbers: ER20-1501-000.

Applicants: Midcontinent Independent System Operator, Inc.

Description: § 205(d) Rate Filing: 2020-04-06_Quarterly Tariff Clean-up Filing to be effective 4/7/2020.

Filed Date: 4/6/20.

Accession Number: 20200406-5024.

Comments Due: 5 p.m. ET 4/27/20.

Docket Numbers: ER20-1502-000.

Applicants: Wabash Valley Power Association, Inc.

Description: § 205(d) Rate Filing: New Wholesale Power Supply Contract—Parke Co REMC to be effective 6/5/2020.

Filed Date: 4/6/20.

Accession Number: 20200406-5077.

Comments Due: 5 p.m. ET 4/27/20.

Docket Numbers: ER20-1503-000.

Applicants: North Star Solar, LLC.

Description: Baseline eTariff Filing: NSS-Little Bear Shared Gen-Tie Facilities Common Ownership Agreement Filing to be effective4/7/2020.

Filed Date: 4/6/20.

Accession Number: 20200406-5151.

Comments Due: 5 p.m. ET 4/27/20.

Take notice that the Commission received the following electric securities filings:

Docket Numbers: ES20-17-000.

Applicants: Trans Bay Cable LLC.

Description: Supplement to February 21, 2020 Application Under Section 204 of the Federal Power Act for Authorization to Issue Securities of Trans Bay Cable LLC.

Filed Date: 4/3/20.

Accession Number: 20200403-5228.

Comments Due: 5 p.m. ET 4/10/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 6, 2020.
Nathaniel J. Davis, Sr.,
Deputy Secretary.

[FR Doc. 2020-07580 Filed 4-9-20; 8:45 am]

BILLING CODE 6717-01-P